DEPARTMENT OF ENERGY

Federal Energy Regulatory Commission

Combined Notice of Filings

Take notice that the Commission has received the following Natural Gas & Oil Pipeline Rate and Refund Report filings:

Filings in Existing Proceedings

Docket Numbers: PR23-26-002.

Applicants: Columbia Gas of Maryland, Inc.

Description: § 284.123 Rate Filing: Amendment to CMD Rates effective Jan. 1, 2023 to be effective N/A.

Filed Date: 4/5/23.

Accession Number: 20230405-5074.

Comment Date: 5 p.m. ET 4/26/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2023.
Debbie-Anne A. Reese,
Deputy Secretary.

[FR Doc. 2023-07583 Filed 4-10-23; 8:45 am]

BILLING CODE 6717-01-P